DEPARTMENT OF JUSTICE

[OMB Number 1121-0095]

Agency Information Collection Activities; Proposed eCollection eComments Requested; Reinstatement, With Change, of a Previously Approved Collection for Which Approval Has Expired: Census of Public Defender Offices

AGENCY: Bureau of Justice Statistics, Department of Justice.

ACTION: 30-Day notice.

SUMMARY: The Department of Justice (DOJ), Bureau of Justice Statistics, will be submitting the following information collection request to the Office of Management and Budget (OMB) for review and approval in accordance with the Paperwork Reduction Act of 1995.

DATES: Comments are encouraged and will be accepted for 30 days until December 26, 2024.

FOR FURTHER INFORMATION CONTACT: If you have comments especially on the estimated public burden or associated response time, suggestions, or need a copy of the proposed information collection instrument with instructions or additional information, please contact: Ryan Kling, Statistician, Judicial Statistics Unit, Bureau of Justice Statistics, 999 North Capitol Street NE, Washington, DC 20002 (email: Ryan.Kling@usdoj.gov; telephone: 202-704-0076).

SUPPLEMENTARY INFORMATION: The proposed information collection was previously published in the Federal Register on September 5, 2024, allowing a 60-day comment period. BJS received 2 comments during the 60-day period, and they are being addressed in the full package to OMB.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number: OMB 1121-0339. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: New Collection.

2. Title of the Form/Collection: Census of Public Defender Offices (CPDO).

3. Agency form number, if any, and the applicable component of the Department of Justice sponsoring the collection: Form number(s): The instrument is CPDO-1. The applicable component within the Department of Justice is the Bureau of Justice Statistics (Judicial Statistics Unit), in the Office of Justice Programs.

4. Affected public who will be asked or required to respond, as well as a brief abstract: Affected Public: Respondents will be leaders of local publicly funded public defender offices.

5. Abstract: The Census of Public Defender Offices (CPDO, OMB Number 1121-0339) is the only national data collection identifying and surveying all public defender offices in the U.S. and Territories since the first iteration of CPDO in 2007. For purposes of this project, public defender offices are eligible for inclusion if they are publicly funded, have a physical address, at least one W-2 earning attorney, and provide direct public defense representation for adults and/or juveniles who are accused of a crime or delinquency or accused in a trial court of violating conditions of a sentence.

After locating all public defender offices in the U.S. within the defined scope, the 2024 CPDO will gather important metrics on public defender office operations from office leaders. Developed in consultation with public defense leaders, the survey includes sections addressing general office operations including expenditures and funding streams, staffing, caseloads, eligibility standards, and office resources.

The 2024 instrument is a combination of questions from the 2007 iteration and new or updated questions reflecting emerging issues in the field of public defense. Retaining historical questions will allow for trend analysis while the newer questions will provide informative data useful for practitioners, researchers and policymakers. Some examples of information provided by the CPDO include:

• Caseloads and case types

• Staff sizes and roles

• Staff attrition

• Staff salary ranges

• Demographics of chief public defender and staff attorneys

• Initial public defender appointment and contact practices

• Case management system capacity

BJS will use the information gathered in CPDO in published reports and statistics. The reports will be made available to the U.S. Congress, Executive Office of the President, practitioners, researchers, students, the media, others interested in criminal justice statistics, and the general public via the BJS website.

6. Obligation To Respond: The obligation to respond is voluntary.

7. Total Estimated Number of Respondents: BJS will send the survey to approximately 2,000 public defender offices (in 50 states, the District of Columbia and five U.S. Territories).

8. Estimated Time per Respondent: The expected burden placed on each respondent is just over 1 hour.

9. Frequency: Periodic—the prior similar census was 17 years prior.

10. Total Estimated Annual Time Burden: The total respondent burden is about 1,890 hours. BJS estimates approximately 6% (120) of offices receiving the survey will screen out of the survey due to ineligibility. The burden for out-of-scope entities will be less than 5 minutes.

| Number of public defender offices | Time per survey | Total time (in minutes) | Total burden hours
Out of scope public defender offices | 120 | 5 | 600 | 10 hours (600 mins/60 mins).
In scope public defender offices | 1,880 | 62 | 116,560 | 1,943 hours (116,560 mins/60 mins).
Total | 2,000 |  |  | 1,953 hours.

11. Total Estimated Annual Other Costs Burden: No costs other than the cost of the hour burden exist for this data collection.

If additional information is required, contact: Darwin Arceo, Department Clearance Officer, Policy and Planning Staff, Justice Management Division, United States Department of Justice, Two Constitution Square, 145 N Street NE, 4W-218, Washington, DC 20530.

Dated: November 21, 2024.
Darwin Arceo,
Department Clearance Officer for PRA, U.S. Department of Justice.

[FR Doc. 2024-27684 Filed 11-25-24; 8:45 am]

BILLING CODE 4410-18-P